DEPARTMENT OF JUSTICE

Office of Justice Programs

[OJP (NIJ) Docket No. 1606]

NIJ Evaluation of Through-Wall Sensor Devices

AGENCY: National Institute of Justice, DOJ.

ACTION: Notice of NIJ evaluation of through-wall sensor devices.

SUMMARY: The National Institute of Justice (NIJ) is soliciting interest in supplying through-wall sensor devices for participation in an evaluation by the NIJ Sensor, Surveillance, and Biometric Technologies Center of Excellence (SSBT CoE). The evaluation is focused on field operation in civilian law enforcement scenarios. Supplied through-wall sensor devices must be fully certified by the Federal Communications Commission for domestic civilian law enforcement operation. Manufacturers interested in participating in this evaluation will be asked to execute a Letter of Understanding. Participating manufacturers will receive a copy of the SSBT CoE Through-Wall Sensor Test & Evaluation Plan. Interested parties are invited to contact NIJ for information regarding participation, Letters of Understanding, and shipping. Letters of Understanding may be obtained from and should be submitted to Mark Greene, National Institute of Justice, Office of Science and Technology, 810 7th Street NW., Washington, DC 20531, emailed to mark.greene2@usdoj.gov, or faxed to (202) 307-9907.

DATES: Manufacturers who wish to participate in the program must submit a request and an executed Letter of Understanding by 5 p.m. Eastern Time on October 29, 2012. Supplied devices are to be loaned to the SSBT CoE for a period of time no less than 60 days and must be received by the SSBT CoE by November 13, 2012.

FOR FURTHER INFORMATION CONTACT: Mark Greene, by telephone at (202) 307-3384 [Note: this is not a toll-free telephone number], or by email at mark.greene2@usdoj.gov.

John H. Laub,
Director, National Institute of Justice.

[FR Doc. 2012-23873 Filed 9-27-12; 8:45 am]

BILLING CODE 4410-18-P